DEPARTMENT OF ENERGY

Federal Energy Regulatory Commission

Combined Notice of Filings #2

Take notice that the Commission received the following electric rate filings:

Docket Numbers: ER10-1821-016; ER11-4475-009.

Applicants: Goshen Phase II LLC, Rockland Wind Farm LLC.

Description: Notice of Non-Material Change in Status of Goshen Phase II LLC, et. al.

Filed Date: 11/30/17.

Accession Number: 20171130-5158.

Comments Due: 5 p.m. ET 12/21/17.

Docket Numbers: ER18-350-000.

Applicants: PJM Interconnection, L.L.C.

Description: § 205(d) Rate Filing: Original Service Agreement No. 4843; Queue AC2-076 (WMPA) to be effective 11/8/2017.

Filed Date: 11/30/17.

Accession Number: 20171130-5061.

Comments Due: 5 p.m. ET 12/21/17.

Docket Numbers: ER18-351-000.

Applicants: Midcontinent Independent System Operator, Inc., Ameren Illinois Company.

Description: § 205(d) Rate Filing: 2017-11-30_SA 3062 Ameren-IMEA Switching Agreement to be effective 11/2/2017.

Filed Date: 11/30/17.

Accession Number: 20171130-5065.

Comments Due: 5 p.m. ET 12/21/17.

Docket Numbers: ER18-352-000.

Applicants: Southwest Power Pool, Inc.

Description: § 205(d) Rate Filing: 1266R9 Kansas Municipal Energy Agency NITSA NOA to be effective 2/1/2018.

Filed Date: 11/30/17.

Accession Number: 20171130-5084.

Comments Due: 5 p.m. ET 12/21/17.

Docket Numbers: ER18-353-000.

Applicants: New England Power Pool Participants Committee.

Description: § 205(d) Rate Filing: Dec 2017 Membership Filing to be effective 12/1/2017.

Filed Date: 11/30/17.

Accession Number: 20171130-5139.

Comments Due: 5 p.m. ET 12/21/17.

Docket Numbers: ER18-354-000.

Applicants: PJM Interconnection, L.L.C.

Description: § 205(d) Rate Filing: Original Service Agreement No. 4849; Queue No. AA2-169 (WMPA) to be effective 11/16/2017.

Filed Date: 11/30/17.

Accession Number: 20171130-5140.

Comments Due: 5 p.m. ET 12/21/17.

Docket Numbers: ER18-355-000.

Applicants: PJM Interconnection, L.L.C.

Description: § 205(d) Rate Filing: Cottonwood Dynamic Schedule Agreement SA No. 4823 to be effective 11/29/2017.

Filed Date: 11/30/17.

Accession Number: 20171130-5142.

Comments Due: 5 p.m. ET 12/21/17.

Docket Numbers: ER18-356-000.

Applicants: Duke Energy Carolinas, LLC.

Description: § 205(d) Rate Filing: Amendment to Due West-DEC NITSA to be effective 1/1/2018.

Filed Date: 11/30/17.

Accession Number: 20171130-5148.

Comments Due: 5 p.m. ET 12/21/17.

Docket Numbers: ER18-357-000.

Applicants: Pacific Gas and Electric Company.

Description: § 205(d) Rate Filing: November 2017 Western WDT Service Agreement Biannual Filing to be effective 2/1/2018.

Filed Date: 11/30/17.

Accession Number: 20171130-5153.

Comments Due: 5 p.m. ET 12/21/17.

Docket Numbers: ER18-358-000.

Applicants: San Diego Gas & Electric Company.

Description: Fifth Annual Informational Filing [Cycle 5] of Fourth Transmission Owner Rate Formula rate mechanism of San Diego Gas & Electric Company.

Filed Date: 11/30/17.

Accession Number: 20171130-5155.

Comments Due: 5 p.m. ET 12/21/17.

Docket Numbers: ER18-359-000.

Applicants: Pacific Gas and Electric Company.

Description: § 205(d) Rate Filing: November 2017 Western Interconnection Agreement Biannual Filing to be effective 2/1/2018.

Filed Date: 11/30/17.

Accession Number: 20171130-5161.

Comments Due: 5 p.m. ET 12/21/17.

Docket Numbers: ER18-360-000.

Applicants: Entergy Arkansas, Inc.

Description: § 205(d) Rate Filing: AECI LBA Agreement to be effective 12/1/2017.

Filed Date: 11/30/17.

Accession Number: 20171130-5171.

Comments Due: 5 p.m. ET 12/21/17.

Docket Numbers: ER18-361-000.

Applicants: Public Service Company of Oklahoma.

Description: § 205(d) Rate Filing: PSO-OGE Malcolm Road Delivery Point Agreement to be effective 11/2/2017.

Filed Date: 11/30/17.

Accession Number: 20171130-5186.

Comments Due: 5 p.m. ET 12/21/17.

Docket Numbers: ER18-362-000.

Applicants: AEP Texas Inc.

Description: § 205(d) Rate Filing: AEPTX-Apex Midway Wind IA 3rd Amend & Restated to be effective 11/5/2017.

Filed Date: 11/30/17.

Accession Number: 20171130-5187.

Comments Due: 5 p.m. ET 12/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2017.
Nathaniel J. Davis, Sr.,
Deputy Secretary.

[FR Doc. 2017-26241 Filed 12-5-17; 8:45 am]

BILLING CODE 6717-01-P